DEPARTMENT OF STATE

[Public Notice 8027]

Privacy Act; System of Records: Records of the Office of White House Liaison, State-34

SUMMARY: Notice is hereby given that the Department of State proposes to amend an existing system of records, Records of the Office of White House Liaison, State-34, pursuant to the provisions of the Privacy Act of 1974, as amended (5 U.S.C.552a) and Office of Management and Budget Circular No. A-130, Appendix I.

DATES: This system of records will be effective on October 29, 2012, unless we receive comments that will result in a contrary determination.

ADDRESSES: Any persons interested in commenting on the amended system of records may do so by writing to the Director, Office of Information Programs and Services, A/GIS/IPS, Department of State, SA-2, 515 22nd Street NW., Washington, DC 20522-8001.

FOR FURTHER INFORMATION CONTACT: Director, Office of Information Programs and Services, A/GIS/IPS, Department of State, SA-2, 515 22nd Street NW., Washington, DC 20522-8001.

SUPPLEMENTARY INFORMATION: The Department of State proposes that the current system will retain the name “Records of the Office of White House Liaison” (64 FR 922). The system maintains information used by the White House Liaison Office for the consideration, review, clearance and appointment of an individual to a non-career appointment. The amended system of records will include modifications to the following sections: Categories of Individuals Covered by the System, Categories of Records in the System, Routine Uses, Safeguards, Retrievability, Retention and Disposal, and administrative updates. The following section has been added to the system of records, Records of the Office of White House Liaison, State-34, to ensure Privacy Act of 1974 compliance: Purpose.

The Department's report was filed with the Office of Management and Budget. The amended system description, “Records of the Office of White House Liaison, State-34,” will read as set forth below.

Joyce A. Barr,
Assistant Secretary for Administration, U.S. Department of State.

STATE-34

SYSTEM NAME:

Records of the Office of White House Liaison.

SECURITY CLASSIFICATION:

Classified and Unclassified.

SYSTEM LOCATION:

Department of State; 2201 C Street, NW; Washington, DC 20520.

CATEGORIES OF INDIVIDUALS COVERED BY THE SYSTEM:

Potential candidates and candidates who are being considered for non-career appointments within the Department of State including Presidential appointments requiring Senate confirmation, non-career Senior Executive Service, Schedule C and limited term non-career appointments. Individuals selected for non-career appointments within the Department and who are at various stages of employment approval and confirmation clearance processes. Individuals who currently hold a non-career position within the Department and career ambassadors.

CATEGORIES OF RECORDS IN THE SYSTEM:

An individual's prospective and/or confirmed Presidential appointment records typically contain, but are not limited to, full name, date and place of birth, Social Security number, and contact information. Records also include resumes; requisite employment forms which include financial disclosure forms, employment history, background and security clearance information received from Executive Offices and Bureau of Human Resources; Congressional forms (Senate Foreign Relations Committee questionnaire, competence statements for the Senate Foreign Relations Committee, Federal Campaign Contribution Report); letters of recommendation; biographic summary; White House draft press release; agreement telegrams (if bilateral ambassadorial positions); employment documents for non-career selectees; correspondence, memoranda and/or email exchanges relative to appointment processing, selection and nomination; transmittal correspondence from the private sector, other government agencies and the Executive and Legislative branches of Federal government; official appointment notice prepared following Presidential attestation of an appointment; documents related to accretion of duties requests including requests for approval submitted to the White House and internal Department processing of the accretion of duties; position description; Foreign Service Residence and Dependency Report; Race and National Origin Identification; and resignation letters and responses from the President.

AUTHORITY FOR MAINTENANCE OF THE SYSTEM:

22 U.S.C. 2651a (Organization of the Department of State); 22 U.S.C. 3921 (Management of the Foreign Service); 5 U.S.C. 301 (Departmental Regulations).

PURPOSE:

The information in the system is used for the consideration, review, clearance and appointment of an individual to a non-career appointment.

ROUTINE USES OF RECORDS MAINTAINED IN THE SYSTEM, INCLUDING CATEGORIES OF USERS AND THE PURPOSES OF SUCH USERS:

The records in this system may be disclosed to the White House Office of Presidential Personnel and the Office of White House Counsel for the purposes of consideration, review, clearance and appointment of an individual to a Presidential position/title. Information may be made available to members of Congress for purposes of confirming nominees to presidentially-appointed positions.

The Department of State periodically publishes in the Federal Register its standard routine uses which apply to all of its Privacy Act systems of records. These notices appear in the form of a Prefatory Statement. These standard routine uses apply to Records of the Office of White House Liaison, State-34.

POLICIES AND PRACTICES FOR STORING, RETRIEVING, ACCESSING, RETAINING AND DISPOSING OF RECORDS IN THE SYSTEM:

STORAGE:

Electronic and paper records.

RETRIEVABILITY:

By individual name.

SAFEGUARDS:

All users are given cyber security awareness training which covers the procedures for handling Sensitive but Unclassified information, including personally identifiable information (PII). Annual refresher training is mandatory. In addition, all Foreign Service and Civil Service employees and those Locally Engaged Staff who handle PII are required to take the FSI distance learning course instructing employees on privacy and security requirements, including the rules of behavior for handling PII and the potential consequences if it is handled improperly. Before being granted access to Records of the Office of White House Liaison, a user must first be granted access to the Department of State computer system.

Remote access to the Department of State network from non-Department owned systems is authorized only through a Department approved access program. Remote access to the network is configured with the Office of Management and Budget Memorandum M-07-16 security requirements which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage.

When it is determined that a user no longer needs access, the user account is disabled.

RETENTION AND DISPOSAL:

These records will be maintained until they become inactive at which time they will be retired or destroyed in accordance with published record schedules of the Department of State and as approved by the National Archives and Records Administration. More specific information may be obtained by writing to the Director; Office of Information Programs and Services, A/GIS/IPS, SA-2, Department of State, 515 22nd Street NW., Washington, DC 20522-8100.

SYSTEM MANAGER(S) AND ADDRESS:

Senior Adviser to the Secretary for Appointments and White House Liaison, Room 7245, Department of State, 2201 C Street NW.,Washington DC 20520.

NOTIFICATION PROCEDURES:

Individuals who have reason to believe that the Office of the White House Liaison might have records pertaining to themselves should write to the Director, Office of Information Programs and Services, A/GIS/IPS, SA-2, Department of State, 515 22nd Street NW., Washington, DC 20522-8100. The individual must specify that he/she wishes the records of the White House Liaison Office to be checked. At a minimum, the individual must include: name, date and place of birth, approximate dates of employment with the Department of State, particularly the time during which the individual was a candidate or held a non-career Presidential appointment; current mailing address and zip code; and signature.

RECORD ACCESS PROCEDURES:

Individuals who wish to gain access to records pertaining to themselves should write to the Director, Office of Information Programs and Services (address above).

CONTESTING RECORD PROCEDURES:

Individuals who wish to amend records pertaining to themselves should write to the Director, Office of Information Programs and Services (address above).

RECORD SOURCE CATEGORIES:

These records contain information obtained directly from the individual who is the subject of these records; Office of the Legal Adviser; Bureau of Diplomatic Security; Bureau of Human Resources; Bureau of Legislative Affairs; the White House Office of Presidential Personnel: and/or individuals who know or worked with the subject and may offer recommendations.

SYSTEM EXEMPTED FROM CERTAIN PROVISIONS OF THE ACT:

Pursuant to 5 U.S.C. 552a (k)(1) and (k)(5), certain records in this system are classified or contain confidential source information and are exempted from 5 U.S.C. 522a(c)(3), (d), (e)(l),(e)(4)(G), (H) and (I), and (f). See Department of State Rules published under 22 CFR 171.36.

[FR Doc. 2012-23004 Filed 9-17-12; 8:45 am]

BILLING CODE 4710-24-P